DEPARTMENT OF JUSTICE

Drug Enforcement Administration

[OMB Number 1117-0033]

Agency Information Collection Activities: Proposed Collection; Comments Requested

ACTION: 30-Day Notice of Information Collection Under Review:

Report of Mail Order Transaction.

The Department of Justice (DOJ), Drug Enforcement Administration (DEA) has submitted the following information collection request to the Office of Management and Budget (OMB) for review and approval in accordance with the Paperwork Reduction Act of 1995. The proposed information collection is published to obtain comments from the public and affected agencies. This proposed information collection was previously published in the Federal Register Volume 71, Number 162, page 48943 on August, 22, 2006, allowing for a 60 day comment period.

The purpose of this notice is to allow for an additional 30 days for public comment until November 20, 2006. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Report of Mail Order Transactions.

(3) Agency form number, if any, and the applicable component of the Department sponsoring the collection: Form number: none. Office of Diversion Control, Drug Enforcement Administration, Department of Justice.

(4) Affected public who will be asked or required to respond, as well as a brief abstract: Primary: Business or other for-profit. Other: None. Abstract: The Comprehensive Methamphetamine Control Act of 1996 (Pub. L. 104-237) (MCA) amended the Controlled Substances Act to require that each regulated person who engages in a transaction with a non-regulated person which involves ephedrine, pseudoephedrine, or phenylpropanolamine (including drug products containing these chemicals) and uses or attempts to use the Postal Service or any private or commercial carrier shall, on a monthly basis, submit a report of each such transaction conducted during the previous month to the Attorney General.

(5) An estimate of the total number of respondents and the amount of time estimated for an average respondent to respond: There are twenty-four (24) total respondents for this information collection. Fourteen (14) responded on paper at 1 hour for each response and ten (10) responded at 15 minutes per form, for an annual burden of 168 hours for paper forms and 30 hours for electronic forms.

(6) An estimate of the total public burden (in hours) associated with the collection: It is estimated that there are 198 annual burden hours associated with this collection.

FOR FURTHER INFORMATION CONTACT: Lynn Bryant, Department Clearance Officer, United States Department of Justice, Justice Management Division, Policy and Planning Staff, Patrick Henry Building, Suite 1600, 601 D Street NW., Washington, DC 20530.

Dated: October 16, 2006.
Lynn Bryant,
Department Clearance Officer, Department of Justice.

[FR Doc. E6-17556 Filed 10-19-06; 8:45 am]

BILLING CODE 4410-09-P